DEPARTMENT OF DEFENSE

Office of the Secretary

[Transmittal No. 23-53]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-53, Policy Justification, and Sensitivity of Technology.

Dated: October 17, 2024.
Aaron T. Siegel,
Alternate OSD Federal Register Liaison Officer, Department of Defense.

BILLING CODE 6001-FR-P

BILLING CODE 6001-FR-C

Transmittal No. 23-53

Notice of Proposed Issuance of Letter of Offer Pursuant to Section 36(b)(1) of the Arms Export Control Act, as amended

(i) Prospective Purchaser: Government of Finland

(ii) Total Estimated Value:

Major Defense Equipment * | $ 0
Other | $395 million
TOTAL | $395 million

(iii) Description and Quantity or Quantities of Articles or Services under Consideration for Purchase:

Major Defense Equipment (MDE):

None

Non-MDE:

Upgrade M270A1 Multiple Launch Rocket Systems (MLRS) to M270A2 configuration. The upgrade will include: intercom systems; radio communication mounts; machine gun mounts; battle management system vehicle integration kits; publications for MLRS; spares; services; support equipment; and other related elements of logistics and program support.

(iv) Military Department: Army (FI-B-VBI).

(v) Prior Related Cases, if any: FI-B-VBX.

(vi) Sales Commission, Fee, etc., Paid, Offered, or Agreed to be Paid: None known at this time.

(vii) Sensitivity of Technology Contained in the Defense Article or Defense Services Proposed to be Sold: See Attached Annex.

(viii) Date Report Delivered to Congress: August 1, 2023.

* As defined in Section 47(6) of the Arms Export Control Act.

Policy Justification

Finland—M270A2 Multiple Launch Rocket System (MLRS) Upgrade

The Government of Finland has requested to buy the M270A2 upgrade for its M270A1 Multiple Launch Rocket Systems (MLRS). The upgrade will include: intercom systems; radio communication mounts; machine gun mounts; battle management system vehicle integration kit; publications for MLRS; spares; services; support equipment; and other related elements of program and logistics support. The estimated total cost is $395 million.

This proposed sale will support the foreign policy and national security of the United States by improving the security of a North Atlantic Treaty Organization (NATO) Ally that is an important force for political stability and economic progress in Europe.

The proposed sale will improve Finland's capability to meet current and future threats and will enhance interoperability with U.S. forces and other allied forces. Finland will have no difficulty absorbing this upgrade into its armed forces.

The proposed sale of this equipment and support will not alter the basic military balance in the region.

The principal contractors will be Lockheed Martin Inc., Grand Prairie, TX; Chelton Inc., Marlow, United Kingdom; Leonardo DRS, Arlington, VA; and Loc Performance Products, Inc., Plymouth, MI. There are no known offset agreements in connection with this potential sale.

Implementation of this proposed sale will not require the assignment of U.S. Government or contractor representatives to Finland.

There will be no adverse impact on U.S. defense readiness as a result of this proposed sale.

Transmittal No. 23-53

Notice of Proposed Issuance of Letter of Offer Pursuant to Section 36(b)(1) of the Arms Export Control Act

Annex

Item No. vii

(vii) Sensitivity of Technology:

1. The M270 Multiple Launch Rocket System (MLRS) is a full spectrum, combat proven all-weather, lethal, and responsive, tracked precision strike weapons system assigned to Field Artillery Brigades (FABs) supporting Brigade Combat Teams (BCTs). All variants of the M270 consists of a modified M993A1 Bradley Carrier mounted with the M269 Launcher Loader Module (LLM). The M270A2 fires all current MLRS and Guided MLRS (GMLRS) rockets and all Army Tactical Missile System (ATACMS) variants. The M270A2 is air transportable by C-5 and C-17 aircraft. Recent upgrades include the Driver Vision Enhancer, Blue Force Tracker, and long-range communications modifications. The M270A2 houses an Improved Armored Cab (IAC) for enhanced crew survivability. The M270A2 incorporates the Common Fire Control System (CFCS) and the Improved Launcher Mechanical System (ILMS) modifications.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Finland can provide the same degree of protection for the sensitive technology being released as the U.S. Government. This sale is necessary in furtherance of the U.S. foreign policy and national security objectives outlined in the Policy Justification.

5. All defense articles and services listed in this transmittal are authorized for release and export to Finland.

[FR Doc. 2024-24492 Filed 10-22-24; 8:45 am]

BILLING CODE 6001-FR-P